DEPARTMENT OF TRANSPORTATION

Federal Motor Carrier Safety Administration

[Docket No. FMCSA-2006-26367]

Motor Carrier Safety Advisory Committee (MCSAC); Public Meeting of the Compliance, Safety, Accountability Subcommittee

AGENCY: Federal Motor Carrier Safety Administration (FMCSA), DOT.

ACTION: Notice of MCSAC subcommittee meeting.

SUMMARY: FMCSA announces that the Motor Carrier Safety Advisory Committee's (MCSAC) Compliance, Safety, Accountability (CSA) subcommittees will meet from April 29-30, 2014, in Arlington, VA. The CSA subcommittee will meet to discuss ideas, concepts, and suggestions on FMCSA's CSA program with the intent of preparing a letter report for submission to the full MCSAC in May 2014. The meeting is open to the public and there will be a public comment period at the end of each day.

Times and Dates: The meeting will be held Tuesday—Wednesday, April 29-30, 2014, from 9 a.m. to 4 p.m., Eastern Daylight Time (E.D.T.). The meeting will be held at the Federal Highway Administration's National Highway Institute, 1310 N. Courthouse Road, Suite 300, Arlington, VA 22201. An agenda for the meeting will be made available in advance of the meeting at http://mcsac.fmcsa.dot.gov.

FOR FURTHER INFORMATION CONTACT: Ms. Shannon L. Watson, Senior Advisor to the Associate Administrator for Policy, Federal Motor Carrier Safety Administration, U.S. Department of Transportation, 1200 New Jersey Avenue SE., Washington, DC 20590, (202) 385-2395, mcsac@dot.gov.

Services for Individuals with Disabilities: For information on facilities or services for individuals with disabilities or to request special assistance at the meeting, contact Ms. Dana Larkin at (617) 494-2821 or dana.larkin@dot.gov, by Wednesday, April 23, 2014.

SUPPLEMENTARY INFORMATION:

I. Background

MCSAC

MCSAC was established to provide FMCSA with advice and recommendations on motor carrier safety programs and motor carrier safety regulations. MCSAC is composed of 20 voting representatives from safety advocacy, safety enforcement, labor, and industry stakeholders of motor carrier safety. The diversity of the Committee ensures the requisite range of views and expertise necessary to discharge its responsibilities. The Committee operates as a discretionary committee under the authority of the U.S. Department of Transportation (DOT), established in accordance with the provisions of the Federal Advisory Committee Act (FACA), as amended, 5 U.S.C. App. 2. See FMCSA's MCSAC Web site for additional information about the committee's activities at http://mcsac.fmcsa.dot.gov/.

Task 12-03: CSA Subcommittee

The CSA Subcommittee will discuss information, concepts, and ideas concerning FMCSA's CSA program. As described in the task statement posted at the MCSAC Web site, the subcommittee will continue its efforts to:

1. Identify and make recommendations for enhancements of the CSA program. These topics should include but not be limited to Safety Measurement System (SMS) and the interventions/investigative processes.

2. Prioritize recommended enhancements of CSA to enable the Agency to direct its efforts to the most important or timely needs of the program.

II. Meeting Participation

Oral comments from the public will be heard during the last half-hour of the meetings each day. Should all public comments be exhausted prior to the end of the specified period, the comment period will close. Members of the public may submit written comments on the topics to be considered during the meeting by Wednesday April 23, 2014, to Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., E.T. Monday through Friday, except Federal holidays.

Dated: April 8, 2014.
Larry W. Minor,
Associate Administrator for Policy.

[FR Doc. 2014-08365 Filed 4-11-14; 8:45 am]

BILLING CODE 4910-EX-P